DEPARTMENT OF THE TREASURY

Submission for OMB Review; Comment Request

October 12, 2005.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before November 17, 2005 to be assured of consideration.

Bureau of Public Debt

OMB Number: 1535-0091.

Type of Review: Extension.

Title: Regulations Governing U.S. Treasury Securities-State and Local Government Series.

Description: The information is requested to establish an investor account, issue and redeem securities.

Respondents: State or Local Government.

Estimated Total Burden Hours: 542 hour.

Clearance Officer: Vicki S. Thorpe, (304) 480-8150, Bureau of the Public Debt, 200 Third Street, Parkersburg, West Virginia 26106.

OMB Reviewer: Alexander T. Hunt, (202) 395-7316, Office of Management and Budget, Room 10235, New Executive Office Building, Washington, DC 20503.

Michael A. Robinson,
Treasury PRA Clearance Officer.

[FR Doc. 05-20763 Filed 10-17-05; 8:45 am]

BILLING CODE 4810-39-P